Proclamation 9428 of April 27, 2016

Law Day, U.S.A., 2016

By the President of the United States of America

A Proclamation

Underpinning American democracy and upholding the founding principles of our Nation, the law enshrines our bedrock belief in equality and justice for all. Central to securing these ideals is ensuring that every American's fundamental, constitutionally-guaranteed individual rights are protected, and by respecting these rights, our Nation demonstrates its unwavering dedication to the law. Our fidelity to the rule of law has guided our country in times of trial and triumph, and it helps us keep faith with our Founders and with generations to come.

On this year's Law Day, we celebrate 50 years since the Supreme Court's ruling in Miranda v. Arizona. This landmark decision made clear that the Fifth Amendment “. . . serves to protect persons in all settings in which their freedom of action is curtailed in any significant way from being compelled to incriminate themselves.” Miranda v. Arizona institutionalized the important practice of explaining constitutional rights prior to interrogation. And it established the important general rule that individuals interrogated in police custody cannot have their answers admitted into evidence against them unless they had first been informed of their rights—including the right to remain silent and the right to have an attorney present.

The Court's decision in Miranda v. Arizona affirmed that “Equal Justice Under Law” is more than just words, but a cornerstone of our Nation's legal system—the idea that no matter who you are or where you come from, you will be treated equally and afforded due process. Today, our society faces new challenges to this age-old tenet. Our criminal justice system is in serious need of reform; disparities in stops, arrests, and sentencing persist; and in too many places distrust exists between community members and law enforcement officers. I am committed to ensuring our Nation's criminal justice system is fair, smart, and effective. By engaging people across America, my Task Force on 21st Century Policing has provided a roadmap for strengthening relationships between local police and the communities they serve, helping to uphold the integrity of our criminal justice system. My Administration has also taken action to address unfair sentencing disparities that undermine the equitable application of the law, and we will continue working to bring greater fairness to our criminal justice system and to ensure that the rule of law remains the foundation of our country.

Miranda v. Arizona imparts an important lesson: Knowledge of our constitutional rights is an essential component to fully exercising those rights. Safeguarding the promise of equal justice requires the participation of all our citizens, and across America, community and court programs that offer civic education and prepare members of the public to fulfill their civic responsibilities are vital to this task.

Chief Justice Earl Warren, the author of the Supreme Court's decision in Miranda v. Arizona, once observed that, “In civilized life, law floats in a sea of ethics.” The law informs right from wrong—it affects the daily reality of our lives and safeguards the birthrights of all Americans. On Law Day, let us recommit to building a future rooted in the rule of law, in which our laws apply equally to everyone and all our children know a fair and just world.

NOW, THEREFORE, I, BARACK OBAMA, President of the United States of America, in accordance with Public Law 87-20, as amended, do hereby proclaim May 1, 2016, as Law Day, U.S.A. I call upon all Americans to acknowledge the importance of our Nation's legal and judicial systems with appropriate ceremonies and activities, and to display the flag of the United States in support of this national observance.

IN WITNESS WHEREOF, I have hereunto set my hand this twenty-seventh day of April, in the year of our Lord two thousand sixteen, and of the Independence of the United States of America the two hundred and fortieth.

[FR Doc. 2016-10302

Filed 4-29-16; 8:45 am]

Billing code 3295-F6-P